ENVIRONMENTAL PROTECTION AGENCY

[EPA-HQ-OAR-2060-0275; FRL-9968-96-OAR]

Proposed Information Collection Request; Comment Request; Regulation of Fuels and Fuel Additives: Detergent Gasoline (Renewal)

AGENCY: Environmental Protection Agency (EPA).

ACTION: Notice.

SUMMARY: The Environmental Protection Agency is planning to submit an information collection request (ICR), “Regulation of Fuels and Fuel Additives: Detergent Gasoline (Renewal)” (EPA ICR No. 1655.09, OMB Control No. 2060-0275) to the Office of Management and Budget (OMB) for review and approval in accordance with the Paperwork Reduction Act. Before doing so, the EPA is soliciting public comments on specific aspects of the proposed information collection as described below. This is a proposed extension of the ICR, which is currently approved through November 30, 2017. An Agency may not conduct or sponsor and a person is not required to respond to a collection of information unless it displays a currently valid OMB control number.

DATES: Comments must be submitted on or before December 5, 2017.

ADDRESSES: Submit your comments, referencing Docket ID No. EPA-HQ-OAR-2007-0595 online using www.regulations.gov (our preferred method), by email to a-and-r-docket@epa.gov or by mail to: EPA Docket Center, Environmental Protection Agency, Mail Code 28221T, 1200 Pennsylvania Ave. NW., Washington, DC 20460.

The EPA's policy is that all comments received will be included in the public docket without change including any personal information provided, unless the comment includes profanity, threats, information claimed to be Confidential Business Information (CBI) or other information whose disclosure is restricted by statute.

FOR FURTHER INFORMATION CONTACT: James W. Caldwell, Environmental Engineer, Compliance Division, Office of Transportation and Air Quality, Mail Code 6405A, U.S. Environmental Protection Agency, 1200 Pennsylvania Avenue NW., Washington, DC 20460; Telephone: (202) 343-9303; Fax: (202) 343-2802; Email address: caldwell.jim@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: Gasoline combustion results in the formation of engine deposits. The accumulation of deposits, particularly in the orifices of fuel injectors and on intake valves, typically results in increased emissions and reduced engine performance. As fuel injectors replaced carburetors in the 1980's, a number of vehicle manufacturers experienced problems with deposit formation. Detergent additives, which had been available for years to control deposits in carbureted vehicles, were improved to accommodate the new technology. However, their use was voluntary and there were no regulatory standards by which to gauge their effectiveness. Congress recognized the importance of effective detergent additives in minimizing vehicle emissions, and added Section 211(1) in the Clean Air Act Amendments of 1990. It required gasoline to contain detergent additives, effective January 1, 1995, and provided the Environmental Protection Agency (EPA) with the authority to establish specifications for such additives. The regulations at 40 CFR 80—Subpart G implemented certification requirements for detergents and imposed a variety of recordkeeping and reporting requirements for certain parties involved with detergents, gasoline, or post-refinery component (any gasoline blending stock or any oxygenate that is blended with gasoline subsequent to the gasoline refining process (PRC)). All gasolines must contain certified detergents, with the exception of research, racing, and aviation gasolines.

The EPA maintains a list of certified gasoline detergents at https://www3.epa.gov/otaq/fuels1/ffars/web-detrg.htm. As of March 2014, there were 374 certified detergents and 17 detergent manufacturers. Most of the certification activity occurred during the early years of the program. In 2012, 12 detergents were certified. In 2013, only 3 new detergents were certified.

There are approximately 250 refiners and importers of gasoline, 1,350 blenders of detergent into gasoline or PRC, 8,000 carriers of gasoline or PRC, 200,000 gasoline retail outlets, and 100,000 fleet facilities which handle gasoline. The estimated total annual burden for respondents for this collection is 220,181 hours and $20,180,587, including $335,040 in annualized capital or O&M costs. The estimated total annual Agency burden is 200 hours and $16,400 in labor costs.

Form Numbers: None.

Respondents/Affected Entities:

The respondents are related to the following major group Standard Industrialization Classification (SIC) codes:

5172—Petroleum Products

2911—Petroleum Refining

The respondents are related to the following major group NAICS codes:

324110—Petroleum Refineries

324199—All Other Petroleum and Coal Products Manufacturing

325110—Petrochemical Manufacturing

325199—All Other Basic Organic Chemical Manufacturing

424710—Petroleum Bulk Stations and Terminals

424720—Petroleum and Petroleum Products Merchant Wholesalers (except Bulk Stations and Terminals)

Respondent's Obligation to Respond: Mandatory per 40 CFR 80—Subpart G, Detergent Gasoline.

Estimated Number of Respondents: 69,504 (total).

Frequency of Response: On occasion.

Total Estimated Burden: 220,181 hours (per year). Burden is defined at 5 CFR 1320.03(b).

Total Estimated Cost: $20,180,587.00 (per year), includes $335,040.00 annualized capital or operation & maintenance costs.

Changes in Estimates: The previous clearance consisted of 220,181 hours (3.17 hours per response), labor costs of $18,500,528, and O&M costs of $335,040, for a total cost of $18,835,568. There is no increase of hours in the total estimated respondent burden compared with the ICR currently approved by OMB. The respondent universe and responses also remained the same in this collection. There was an increase in cost to the industry of $1,345,019 per year due to updated numbers used to calculate the industry burden and to account for inflation.

Dated: September 28, 2017.
Byron J. Bunker,
Director, Compliance Division, Office of Transportation and Air Quality, Office of Air and Radiation.

[FR Doc. 2017-21609 Filed 10-5-17; 8:45 am]

BILLING CODE 6560-50-P